ENVIRONMENTAL PROTECTION AGENCY

[ER-FRL-8998-5]

Mandan, Hidatsa and Arikara (MHA) Nation's Refinery, Notice of Availability of the Record of Decision (ROD), National Pollutant Discharge Elimination System (NPDES) Permit

AGENCY: U.S. Environmental Protection Agency (EPA).

ACTION: Notice.

SUMMARY: The MHA Nation proposes to construct, own and operate a 13,000 barrels-per-day petroleum refinery on the Fort Berthold Indian Reservation near Makoti in North Dakota. The refinery will produce diesel fuel, gasoline and propane. The NPDES permit will be for surface water discharges associated with the operation of the refinery.

EPA's decision to issue the NPDES permit is based on the Environmental Impact Statement (EIS), the Fact Sheet for the NPDES permit and the administrative record for the project. EPA and the Bureau of Indian Affairs issued the draft EIS in June 2006 and the final EIS (FEIS) in August 2009. Since the FEIS was issued, the MHA Nation decided to change the refinery feedstock from synthetic crude oil to the Bakken formation crude. As a result of the feedstock change, EPA evaluated the potential changes in impacts and the analysis in the FEIS. EPA's evaluation is summarized in a Supplemental Information Report (SIR). The FEIS, ROD and SIR are available for review at http://www.epa.gov/region8/compliance/nepa/mharefinery.html. The appeal period for the NPDES permit decision ends 30 days from the date of this notice in accordance with 40 CFR 124.19.

FOR FURTHER INFORMATION CONTACT: Ms. Dana Allen; Allen.dana@epa.gov, (303) 312-6870 regarding the ROD and SIR and Mr. Robert Brobst; Brobst.bob@epa.gov, (303) 312-6129 regarding the NPDES permit; U.S. Environmental Protection Agency, Region 8, 1595 Wynkoop Street; Denver, Colorado, 80202-1129.

Dated: August 9, 2011.
Susan E. Bromm,
Director, Office of Federal Activities.

[FR Doc. 2011-20601 Filed 8-11-11; 8:45 am]

BILLING CODE P